FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than January 20, 2022.

A. Federal Reserve Bank of Kansas City (Jeffrey Imgarten, Assistant Vice President) 1 Memorial Drive, Kansas City, Missouri 64198-0001:

1. The E&N-AMG National Trust Bank Irrevocable Trust fbo Michael S. Wright; the E&N-AMG National Trust Bank Irrevocable Trust fbo Jacob T. Wright; the E&N-AMG National Trust Bank Irrevocable Trust fbo James E. Wright; the NSW-AMG National Trust Bank Irrevocable Trust fbo Michael S. Wright; the NSW-AMG National Trust Bank Irrevocable Trust fbo David M. Wright; the NSW-AMG National Trust Bank Irrevocable Trust fbo Jacob T. Wright; the NSW-AMG National Trust Bank Irrevocable Trust fbo James E. Wright; all of Castle Pines, Colorado; Michael S. Wright, Castle Pines, Colorado, individually and as trustee of all of the trusts listed; the Bergmann 2011 Irrevocable Trust Under Agreement, Alma F. Bergmann, trustee, both of Bow Mar, Colorado; the Community Property Trusts under the Michael Dean Bergmann and Alma F. Bergmann Declaration of Trust, Alma F. Bergmann and Michael D. Bergmann, as co-trustees, all of Bow Mar, Colorado; Earl L. Wright, Castle Pines, Colorado; Nathan Bergmann and Kelley Bergmann, both of Denver, Colorado; to form the Wright/Bergmann group, a group acting in concert, to retain voting shares of AMG National Corp., Greenwood Village, Colorado, and thereby indirectly retain voting shares of AMG National Trust Bank, Boulder, Colorado.

B. Federal Reserve Bank of Minneapolis (Chris P. Wangen, Assistant Vice President) 90 Hennepin Avenue, Minneapolis, Minnesota 55480-0291:

1. Scott A. Erickson and Matthew P. Bock, both of Sioux Falls, South Dakota: To retain voting shares of Leackco Bank Holding Company, Inc., Huron, South Dakota, and thereby indirectly retain voting shares of American Bank & Trust, Wessington Springs, South Dakota.

Additionally, the 2021 Jeffory A. Erickson Irrevocable Trust No. 5 (Erickson Trust 5), the 2021 Jeffory A. Erickson Irrevocable Trust No. 6 (Erickson Trust 6), the 2021 Jeffory A. Erickson Irrevocable Trust No. 7 (Erickson Trust 7), and the 2021 Jeffory A. Erickson Irrevocable Trust No. 8 (Erickson Trust 8), and collectively, the “New Erickson Trusts”, Matthew P. Bock, as trust protector of the New Erickson Trusts, Scott A. Erickson as investment trust advisor of the New Erickson Trusts and trustee of Erickson Trust 5, 6 and 8, and Jamie L. Brown as trustee of Erickson Trust 7, all of Sioux Falls, South Dakota; to join the Erickson family shareholder group, a group acting in concert, by retaining voting shares of Leackco Bank Holding Company, Inc., and thereby indirectly retaining voting shares of American Bank & Trust.

Finally, the 2021 Preston B. Steele Irrevocable Trust No. 1, the 2021 Preston B. Steele Irrevocable Trust No. 2, and the 2021 Preston B. Steele Irrevocable Trust No. 3, collectively, “the New Steele Trusts”, Matthew P. Bock, as investment trust advisor and trustee of the New Steele Trusts, and Scott A. Erickson, as trust protector of the New Steele Trusts, all of Sioux Falls, South Dakota; to join the Steele family shareholder group, a group acting in concert, by retaining voting shares of Leackco Bank Holding Company, Inc., and thereby indirectly retaining voting shares of American Bank & Trust.

Board of Governors of the Federal Reserve System, December 30, 2021.
Michele Taylor Fennell,
Deputy Associate Secretary of the Board.

[FR Doc. 2021-28573 Filed 1-4-22; 8:45 am]

BILLING CODE P